DEPARTMENT OF HEALTH AND HUMAN SERVICES

Administration for Children and Families

Proposed Information Collection Activity; Comment Request

Proposed Projects

Title: Head Start Family and Child Experiences Survey (FACES)/Quality Research Center Consortium.

OMB No.: Revision of a currently approved collection (#0970-0151).

Description: The Administration on Children, Youth and Families (ACYF), Administration for Children and Families (ACF) of the Department of Health and Human Services (DHHS) is requesting comments on plans to amend the Head Start Family and Child Experiences Survey (FACES) data collection. This study is being conducted under contract with Westat, Inc. (with Ellsworth Associates and the CDM Group as their subcontractors) (#105-96-1912) to collect information on Head Start performance measures. The current revision is intended to include 8 additional sites participating in the Head Start Quality Research Center Consortium. These Head Start program-university researcher partnerships, funded under cooperative agreements with ACYF, will be conducting evaluations of interventions designed to enhance the school readiness of Head Start children in such areas as literacy and social-emotional development, through improvements in curriculum, training, and assessment practices. This amendment will include use of subsections of the FACES instrument battery to obtain information about classroom quality and child performance both before and after the implementation of the interventions. Data from local sites can then be compared to the data available from the FACES national sample.

Respondents: Federal Government, Individuals or Households, and Not-for-profit institutions.

Annual Burden Estimates:

Estimated Response Burden for Respondents to the Quality Research Center Consortium FACES Data Collection, 2001, 2002, 2003
Instrument | Number of respondents | Number of responses per respondent | Average burden hours per response | Total burden hours
Year 1 (Fall 2001):
Head Start Children | 520 | 1 | 0.66 | 343
Head Start Teachers (child ratings) | 40 | 13 | 0.25 | 130
Center Directors | 8 | 1 | 1.00 | 8
Education Coordinators | 8 | 1 | 0.75 | 6
Classroom Teachers | 40 | 1 | 1.00 | 40
Year 2 (Spring 2002):
Head Start Children | 520 | 1 | 0.66 | 343
Head Start Teachers (child ratings) | 40 | 13 | 0.25 | 130
Classroom Teachers | 40 | 1 | 1.00 | 40
(Fall 2002):
Head Start Children | 800 | 1 | 0.66 | 528
Head Start Teachers (child ratings) | 80 | 13 | 0.25 | 260
Center Directors | 16 | 1 | 1.00 | 16
Education Coordinators | 16 | 1 | 0.75 | 13
Classroom Teachers | 80 | 1 | 1.00 | 80
Year 3 (Spring 2003):
Head Start Children | 800 | 1 | 0.66 | 528
Head Start Teachers (child ratings) | 80 | 13 | 0.25 | 260
Classroom Teachers | 80 | 1 | 1.0 | 80
Annualized Totals:
Year 1 |  |  |  | 527
Year 2 |  |  |  | 1410
Year 3 |  |  |  | 868

Estimated Average Annual Burden Hours: 935.

Note: The 935 Estimated Average Burden Hours is based on an average of 2001, 2002, and 2003 estimated burden hours:

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 6, 2001.
Bob Sargis,
Reports Clearance Officer.

[FR Doc. 01-14668 Filed 6-11-01; 8:45 am]

BILLING CODE 4184-01-M